DEPARTMENT OF DEFENSE

Office of the Secretary

[Docket ID: DoD-2023-OS-0034]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 23, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Military Community Advocacy, 4800 Mark Center Drive, Suite 3G15, Alexandria, VA 22350, Lee Kelley, (703) 380-9477.

SUPPLEMENTARY INFORMATION:

Title; Associated Form; and OMB Number: Evaluation of the Family Advocacy Program's Domestic Violence Awareness and Child Abuse Prevention Campaigns; OMB Control Number 0704-EFAC.

Needs and Uses: This project is needed to evaluate the effectiveness of the Family Advocacy Program's (FAP), Domestic Violence Awareness (DVA), and Child Abuse Prevention (CAP) campaigns at increasing knowledge and awareness. The Department of Defense, Service branches, and the Family Advocacy Program (FAP) have historically applied child abuse prevention and domestic violence awareness efforts during annual awareness months to leverage increased visibility and media coverage. Evaluation of the reach and penetration of these campaigns is imperative to assess the effectiveness of the messaging developed and delivered by the FAP.

Affected Public: Individuals or households.

Annual Burden Hours: 600.

Number of Respondents: 2,400.

Responses per Respondent: 1.

Annual Responses: 2,400.

Average Burden per Response: 15 minutes.

Frequency: Once.

Dated: April 18, 2023.
Aaron T. Siegel,
Alternate OSD Federal Register Liaison Officer, Department of Defense.

[FR Doc. 2023-08524 Filed 4-21-23; 8:45 am]

BILLING CODE 5001-06-P